DEPARTMENT OF LABOR

Employment and Training Administration

[TA-W-37,243]

Whizard Protective Ware Corporation, Birmingham, Ohio; Dismissal of Application for Reconsideration

Pursuant to 29 CFR 90.18(C) an application for administrative reconsideration was filed with the Director of the Division of Trade Adjustment Assistance for workers at Whizard Protective Ware Corporation, Birmingham, Ohio. The application contained no new substantial information which would bear importantly on the Department's determination. Therefore, dismissal of the application was issued.

TA-W-37,243; Whizard Protective Ware Corporation, Birmingham, Ohio (May 10, 2000.

Signed at Washington, DC, this 12th day of May, 2000.
Grant D. Beale,
Program Manager, Division of Trade Adjustment Assistance.

[FR Doc. 00-12507 Filed 5-17-00; 8:45 am]

BILLING CODE 4510-30-M